DEPARTMENT OF TRANSPORTATION

Federal Aviation Administration

14 CFR Part 39

[Docket No. FAA-2005-20292; Directorate Identifier 2004-SW-26-AD]

RIN 2120-AA64

Airworthiness Directives; Agusta S.p.A. Model A109E Helicopters

AGENCY: Federal Aviation Administration, DOT.

ACTION: Notice of proposed rulemaking (NPRM).

SUMMARY: This document proposes adopting a new airworthiness directive (AD) for Agusta S.p.A. (Agusta) Model A109E helicopters. This proposal would require visually inspecting each main transmission support fitting (fitting) attachment bolt (bolt) for a fracture, a crack, or looseness, and verifying the torque on each fitting bolt. This proposal is prompted by two incidents of fatigue failure of the bolts that secure the transmission rear support fittings to the helicopter. The actions specified by this proposed AD are intended to detect a fracture, a crack, or looseness of a fitting bolt, and prevent fatigue failure of a fitting bolt and subsequent loss of control of the helicopter.

DATES: Comments must be received on or before April 11, 2005.

ADDRESSES: Use one of the following addresses to submit comments on this proposed AD:

• DOT Docket Web site: Go to http://dms.dot.gov and follow the instructions for sending your comments electronically;

• Government-wide rulemaking Web site: Go to http://www.regulations.gov and follow the instructions for sending your comments electronically;

• Mail: Docket Management Facility; U.S. Department of Transportation, 400 Seventh Street, SW., Nassif Building, Room PL-401, Washington, DC 20590;

• Fax: 202-493-2251; or

• Hand Delivery: Room PL-401 on the plaza level of the Nassif Building, 400 Seventh Street, SW., Washington, DC, between 9 a.m. and 5 p.m., Monday through Friday, except Federal holidays.

You may get the service information identified in this proposed AD from Agusta, 21017 Cascina Costa di Samarate (VA) Italy, Via Giovanni Agusta 520, telephone 39 (0331) 229111, fax 39 (0331) 229605-222595.

You may examine the comments to this proposed AD in the AD docket on the Internet at http://dms.dot.gov.

FOR FURTHER INFORMATION CONTACT: Sharon Miles, Aviation Safety Engineer, FAA, Rotorcraft Directorate, Regulations and Guidance Group, Fort Worth, Texas 76193-0111, telephone (817) 222-5122, fax (817) 222-5961.

SUPPLEMENTARY INFORMATION:

Comments Invited

We invite you to submit any written data, views, or arguments regarding this proposed AD. Send or deliver your comments to the address listed under the caption ADDRESSES. Include the docket number “FAA-2005-20292, Directorate Identifier 2004-SW-26-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed rulemaking. Using the search function of our docket Web site, you can find and read the comments to any of our dockets, including the name of the individual who sent or signed the comment. You may review the DOT's complete Privacy Act Statement in the Federal Register published on April 11, 2000 (65 FR 19477-78) or you may visit http://dms.dot.gov.

Examining the Docket

You may examine the docket that contains the proposed AD, any comments, and other information in person at the Docket Management System (DMS) Docket Office between 9 a.m. and 5 p.m., Monday through Friday, except Federal holidays. The Docket Office (telephone 1-800-647-5227) is located at the plaza level of the Department of Transportation NASSIF Building in Room PL-401 at 400 Seventh Street, SW., Washington, DC. Comments will be available in the AD docket shortly after the DMS receives them.

Discussion

The Ente Nazionale per l'Aviazione Civile (ENAC), the airworthiness authority for Italy, notified the FAA that an unsafe condition may exist on Agusta Model A109E helicopters. ENAC advises of the need to check the bolts that secure the fittings to the structure by following the manufacturer's Bollettino Tecnico No. 109EP-43, dated March 3, 2004.

Agusta has issued Bollettino Tecnico No. 109EP-43, dated March 25, 2004, which specifies a periodic visual inspection to verify the integrity of the slippage marks, and successively checking the torque of the bolts to exclude the possible presence of looseness and/or a fracture or a crack. ENAC classified this bollettino tecnico as mandatory and issued AD No. 2004-099, dated March 29, 2004, to ensure the continued airworthiness of these helicopters in Italy.

This helicopter model is manufactured in Italy and is type certificated for operation in the United States under the provisions of 14 CFR 21.29 and the applicable bilateral agreement. Pursuant to the applicable bilateral agreement, ENAC has kept us informed of the situation described above. We have examined the findings of ENAC, reviewed all available information, and determined that AD action is necessary for products of this type design that are certificated for operation in the United States.

This previously described unsafe condition is likely to exist or develop on other helicopters of the same type design registered in the United States. Therefore, the proposed AD would require inspecting the fitting bolts, part number (P/N) NAS625-14, for a fracture, a crack, or looseness within 5 hours time-in-service (TIS), and then at intervals not to exceed 10 hours TIS until performing a torque inspection of each fitting bolt. The torque inspection would have to be accomplished before further flight if looseness is found, or within 25 hours TIS if looseness is not found. If a fracture or a crack is found on any bolt in any fitting, replacing all 4 of the bolts in a fitting with airworthy fitting bolts would be required before further flight. If any torque inspection reveals that the torque of any bolt in a fitting is not between 11.3—15.8 Nm (100—140 inch-pounds), all 4 of the bolts in the fitting would have to be replaced with airworthy fitting bolts before further flight. The actions would be required to be accomplished in accordance with the bolletino tecnico described previously.

We estimate that this proposed AD would affect 58 helicopters of U.S. registry. Three inspections (one initial, one repetitive, and the torque inspection) would take approximately 4 work hours to accomplish at an average labor rate of $65 per work hour. (The manufacturer states that it shall recognize a warranty credit of up to $200 per helicopter for the labor). Required parts would cost approximately $1,600 per helicopter ($100 per fitting bolt for 16 fitting bolts). Based on these figures, the total estimated cost impact of the proposed AD on U.S. operators is $115,420, assuming that no warranty credit is available and that all affected fitting bolts are replaced.

Regulatory Findings

We have determined that this proposed AD would not have federalism implications under Executive Order 13132. Additionally, this proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a draft economic evaluation of the estimated costs to comply with this proposed AD. See the DMS to examine the draft economic evaluation.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

Agusta S.p.A.: Docket No. FAA-200X-XXXXX; Directorate Identifier 2004-SW-26-AD.

Applicability: Model A109E helicopters, certificated in any category.

Compliance: Required as indicated, unless accomplished previously.

To detect a fracture, a crack, or looseness of a main transmission support fitting (fitting) attachment bolt (bolt), and prevent fatigue failure of a fitting bolt and subsequent loss of control of the helicopter, accomplish the following:

(a) Within 5 hours time-in-service (TIS), and then at intervals not to exceed 10 hours TIS until a torque inspection of each fitting bolt is accomplished in accordance with paragraph (b) of this AD, inspect each fitting bolt, part number NAS625-14, for a fracture, a crack, or looseness using a light and a mirror in accordance with Part I, steps 1. through 4., of Agusta Bollettino Tecnico No. 109EP-43, dated March 25, 2004 (BT).

(1) On each of the 4 fittings, if a fracture or a crack is found in any bolt, replace all 4 bolts in the fitting with airworthy fitting bolts before further flight.

(2) If looseness is found in any bolt in any fitting, inspect each of the 4 bolts on each of the 4 fittings (16 bolts total) to determine if the torque is between 11.3-15.8 Nm (100-140 inch-pounds). If the indicated torque is not within the acceptable range on any bolt in a fitting, before further flight, remove all 4 bolts in the fitting and replace them with airworthy fitting bolts in accordance with Part II, steps 5.1 through 9. of the BT.

(b) Within 25 hours TIS, inspect each bolt in each fitting to determine if the torque is between 11.3-15.8 Nm (100-140 inch-pounds). If the indicated torque is not within the acceptable range on any bolt, before further flight, remove all 4 bolts in the fitting and replace them with airworthy fitting bolts in accordance with Part II, steps 5.1 through 9., of the BT.

(c) Accomplishing the inspections specified in paragraphs (a) and (b) constitute terminating actions for the requirements of this AD.

(d) To request a different method of compliance or a different compliance time for this AD, follow the procedures in 14 CFR 39.19. Contact the Safety Management Group, Rotorcraft Directorate, FAA, for information about previously approved alternative methods of compliance.

(e) Special flight permits may be issued in accordance with 14 CFR 21.197 and 21.199 to operate the helicopter to a location where the requirements of this AD can be accomplished, provided that no fracture or crack or looseness was found during the inspections required by this AD.

Note: The subject of this AD is addressed in Ente Nazionale per l'Aviazione Civile (Italy) AD No. 2004-099, dated March 29, 2004.

Issued in Fort Worth, Texas, on February 1, 2005.
David A. Downey,
Manager, Rotorcraft Directorate, Aircraft Certification Service.

[FR Doc. 05-2591 Filed 2-9-05; 8:45 am]

BILLING CODE 4910-13-P